ENVIRONMENTAL PROTECTION AGENCY

[EPA-HQ-OPP-2021-0287; FRL-9612-01-OMS]

Information Collection Request Submitted to OMB for Review and Approval; Comment Request; Certification of Pesticide Applicators (Renewal)

AGENCY: Environmental Protection Agency (EPA).

ACTION: Notice.

SUMMARY: The Environmental Protection Agency (EPA) has submitted an information collection request (ICR), Certification of Pesticide Applicators (EPA ICR No. 2499.03, OMB Control No. 2070-0196) to the Office of Management and Budget (OMB) for review and approval in accordance with the Paperwork Reduction Act. The is a proposed extension of the ICR, which is currently approved through February 28, 2022. Public comments were previously requested via the Federal Register on June 30, 2021 during a 60-day comment period. This notice allows for an additional 30 days for public comments. A fuller description of the ICR is given below, including its estimated burden and cost to the public. An agency may not conduct or sponsor and a person is not required to respond to a collection of information unless it displays a currently valid OMB control number.

DATES: Additional comments must be received on or before March 28, 2022.

ADDRESSES: Submit your comments to EPA, referencing Docket ID No. EPA-HQ-OPP-2021-0287, online using www.regulations.gov (our preferred method), by email to siu.carolyn@epa.gov, or by mail to: EPA Docket Center, Environmental Protection Agency, Mail Code 28221T, 1200 Pennsylvania Ave. NW, Washington, DC 20460.

EPA's policy is that all comments received will be included in the docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Regulatory Support Branch, Office of Chemical Safety and Pollution Prevention, Environmental Protection Agency (Mailcode: 7101M), 1200 Pennsylvania Ave. NW, Washington, DC 20460; telephone number: (202) 566-1205; email address: siu.carolyn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA administers certification programs for pesticide applicators under section 11 of the Federal Insecticide, Fungicide, and Rodenticide Act (FIFRA), 7 U.S.C. 136 et seq. FIFRA allows EPA to classify a pesticide as “restricted use” if the pesticide meets certain toxicity or risk criteria. The regulations in 40 CFR part 171 include procedures for certification programs for States, Federal agencies, Indian tribes, or U.S. territories who wish to develop and implement their own certification plans and programs, after obtaining EPA approval. This ICR addresses the information collection activities contained in the final rule revisions to 40 CFR part 171, issued in the Federal Register on January 4, 2017 (82 FR 952) (FRL-9956-70). The ICR estimates the incremental burden of the changes that were not already included in the ICR entitled “Certification of Pesticide Applicators” as approved under OMB No: 2070-0029.

The final rule revised 40 CFR part 171 to include new and revised standards for certification for commercial and private applicators, provisions for recertification of applicators, and training for noncertified applicators applying restricted use pesticides (RUPs) under the supervision of certified applicators. The rule also includes changes to improve the clarity and organization of 40 CFR part 171 and overall program operation. The changes are intended to ensure that all persons who use RUPs—i.e., private applicators, commercial applicators, and noncertified applicators using RUPs under the direct supervision of certified applicators—are competent to use RUPs in a manner that will not result in unreasonable adverse effects to themselves, others, or the environment.

This ICR estimates the burden and costs of the rule-related information collection activities, including burden and cost estimates related to initial rule familiarization activities.

Form Numbers: None.

Respondents/affected entities: Agricultural establishments, pest control officials, pesticide registrants, pesticide dealers, and administrators of environmental protection programs, governmental pest control programs, pesticide applicator certification programs (e.g., authorized agencies), and RUP dealers (only for EPA administrated programs).

Respondent's obligation to respond: Mandatory, FIFRA sections 3 and 11.

Estimated number of respondents: 1,860,974 (total).

Frequency of response: On occasion.

Total estimated burden: 2,280,849 hours (per year). Burden is defined at 5 CFR 1320.3(b).

Total estimated cost: $108,061,898 (per year), includes $0 annualized capital or operation and maintenance costs.

Changes in the estimates: Apart from updating the format of the ICR to meet current format standards and a few minor changes, there are no substantive changes from the ICR currently approved by OMB.

Courtney Kerwin,
Director, Regulatory Support Division.

[FR Doc. 2022-03989 Filed 2-24-22; 8:45 am]

BILLING CODE 6560-50-P